DEPARTMENT OF ENERGY

Federal Energy Regulatory Commission

Notice of Intent To File Application for New License

November 20, 2000.

Take notice that the following notice of intent has been filed with the Commission and is available for public inspection:

a. Type of filing: Notice of Intent to File Application for New License.

b. Project No.: 2111.

c. Date filed: November 6, 2000.

d. Submitted By: PacifiCorp.

e. Name of Project: Swift No. 1 Hydroelectric Project.

f. Location: On the Lewis River, near the town of Cougar in Skamania County, Washington. Federal lands within the project boundary include acreage of the Gifford-Pinchot National Forest.

g. Filed Pursuant to: Section 15 of the Federal Power Act, 18 CFR 16.6 of the Commission's regulations.

h. Effective date of current license: May 1, 1956.

i. Expiration date of current license: April 30, 2006.

j. The 240-megawatt project consists of a 512-foot-high, earthfill dam on the Lewis River about 45 miles upstream of its confluence with the Columbia River, a 4,860-acre reservoir, three 13-foot diameter penstocks, and a powerhouse with three generating units.

k. Pursuant to 18 CFR 16.7, information on the projects is available at: PacifiCorp, ATTN: Frank Shrier, 325 N.E. Multnomah, Suite 1500, Portland, OR 97232, Phone: 503-813-6622.

l. FERC contact: Vice Yearick (202) 219-3073 or e-mail at vicee.yearick@ferc.fed.us

m. Pursuant to 18 CFR 16.9(b)(1) each application for a new license and any competing license applications must be filed with the Commission at least 24 months prior to the expiration of the existing license. All applications for license for this project must be filed by April 30, 2004.

n. A copy of this notice of intent is available for inspection and reproduction at the Commission's Public Reference Room, located at 888 First Street, NE, Room 2A, Washington, DC 20426, or by calling (202) 208-1371. The notice may be viewed on http://www.ferc.fed.us/online/rims.htm (call (202) 208-2222 for assistance). A copy is also available for inspection and reproduction at the address in item k above.

David P. Boergers,
Secretary.

[FR Doc. 00-30085 Filed 11-24-00; 8:45 am]

BILLING CODE 6717-01-M